ENVIRONMENTAL PROTECTION AGENCY

[EPA-HQ-OW-2008-0719; FRL 9940-54-OEI]

Information Collection Request Submitted to OMB for Review and Approval; Comment Request; National Pretreatment Program (Renewal)

AGENCY: Environmental Protection Agency (EPA).

ACTION: Notice.

SUMMARY: The Environmental Protection Agency has submitted an information collection request (ICR), “National Pretreatment Program” (EPA ICR No. 0002.16, OMB Control No. 2040-0009) to the Office of Management and Budget (OMB) for review and approval in accordance with the Paperwork Reduction Act (44 U.S.C. 3501 et seq.). This is a proposed extension of the ICR, which is currently approved through December 31, 2015. Public comments were previously requested via the Federal Register (80 FR 60142) on October 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 27, 2016.

ADDRESSES: Submit your comments, referencing Docket ID Number EPA-HQ-OW-2008-0719, to (1) EPA online using www.regulations.gov (our preferred method), by email to ow-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Amelia Letnes, Office of Wastewater Management, Mail Code 4203M, Environmental Protection Agency, 1200 Pennsylvania Ave. NW., Washington, DC 20460; telephone number: 202-564-5627; email address: letnes.amelia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit www.epa.gov/dockets.

Abstract: This ICR calculates the burden and costs associated with managing and implementing the National Pretreatment Program as mandated under Clean Water Act (CWA) sections 402(a) and (b) and 307(b). This ICR includes all existing tasks under the National Pretreatment Program, as amended by the EPA's Streamlining Rule. EPA's Office of Wastewater Management (OWM) in the Office of Water (OW) is responsible for the management of the pretreatment program. The CWA requires EPA to develop national pretreatment standards to control discharges from Industrial Users (IUs) into POTWs. These standards limit the level of certain pollutants allowed in non-domestic wastewater that is discharged to a POTW. EPA administers the pretreatment program through the NPDES permit program. Under the NPDES permit program, EPA may approve State or individual POTW implementation of the pretreatment standards at their respective levels.

Form Numbers: None.

Respondents/affected entities: State & Local Governments, Private Entities

Respondent's obligation to respond: Mandatory per Clean Water Act (CWA) sections 402(a) and (b) and 307(b).

Estimated number of respondents: 95,462 (total).

Frequency of response: Annually, Semi-annually, on occasion

Total estimated burden: 1,744,406 hours (per year). Burden is defined at 5 CFR 1320.03(b)

Total estimated cost: $77,907,187 (per year), includes $2,515,470 annualized capital or operation & maintenance costs.

Changes in the Estimates: There is a decrease of 62,110 hours in the total estimated respondent burden compared with the ICR currently approved by OMB. This decrease is due to updated estimates that account for changes in the respondent universe.

Courtney Kerwin,
Acting Director, Collection Strategies Division.

[FR Doc. 2015-32609 Filed 12-24-15; 8:45 am]

BILLING CODE 6560-50-P